DEPARTMENT OF THE INTERIOR

Fish and Wildlife Service

[FWS-HQ-MB-2024-N039; FXMB1231099BPP0-245-FF09M30000; OMB Control Number 1018-New]

Agency Information Collection Activities; Submission to the Office of Management and Budget; National Double-Crested Cormorant Survey

AGENCY: Fish and Wildlife Service, Interior.

ACTION: Notice of information collection; request for comment.

SUMMARY: In accordance with the Paperwork Reduction Act of 1995, we, the U.S. Fish and Wildlife Service (Service), are proposing a new information collection in use without approval.

DATES: Interested persons are invited to submit comments on or before September 4, 2024.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-New DCC” in the subject line of your comments.

FOR FURTHER INFORMATION CONTACT: To request additional information about this information collection request (ICR), contact Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On April 22, 2024, we published in the Federal Register (89 FR 29361) a notice of our intent to request that OMB approve this information collection. In that notice, we solicited comments for 60 days, ending on June 21, 2024. In an effort to increase public awareness of, and participation in, our public commenting processes associated with information collection requests, the Service also published the Federal Register notice on Regulations.gov (Docket No. FWS-HQ-MB-2024-0044) to provide the public with an additional method to submit comments (in addition to the typical U.S. mail submission method). We received three comments in response to the notice. However, none of the comments addressed the information collection requirements; therefore, no response is required.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The U.S. Fish and Wildlife Service (Service, we) is the Federal agency delegated with the primary responsibility for managing migratory birds. Our authority derives from the Migratory Bird Treaty Act of 1918 (MBTA; 16 U.S.C. 703-712), as amended, which implements conventions with Great Britain (for Canada), Mexico, Japan, and Russia. We implement the provisions of the MBTA through the regulations in parts 10, 13, 20, 21, 22, and 92 of title 50 of the Code of Federal Regulations (CFR). The MBTA protects migratory birds (listed in 50 CFR 10.13) from take directed at birds, except as authorized under the MBTA. Regulations pertaining to specific migratory bird permit types are at 50 CFR parts 21 and 22.

The double-crested cormorant (cormorant; Phalacrocorax auritus) is a fish-eating migratory bird that is distributed across a large portion of North America. There are five different breeding populations—the Alaska, Pacific (or Western), Interior, Atlantic, and Southern populations. Although each of these populations is categorized by breeding range, the populations commingle to various extents on their migration and wintering areas, with birds from populations closer to each other overlapping more than those that are more distant.

In response to ongoing damage at aquaculture facilities and other damage and conflicts associated with increasing cormorant populations, the Service administers regulations that authorize the take of cormorants through regular depredation permits (50 CFR 21.100) or the special double-crested cormorant permit available only to State and Tribal fish and wildlife agencies (50 CFR 21.123). Take through these two permit types is supported by assessments that were completed in 2017 and 2020 under the National Environmental Policy Act (NEPA; 42 U.S.C. 4321 et seq.). The 2017 environmental assessment (EA) supported issuance of depredation permits (82 FR 52936; November 15, 2017), and the 2020 environmental impact statement (EIS) supported creation of the special double-crested cormorant permit (85 FR 85535; December 29, 2020). To determine sustainable take of cormorants, the 2020 EIS contained a potential take limit (PTL) assessment that is used to inform permitting decisions.

Federal, State, Tribal, and many private entities share the Service's goal of maintaining sustainable cormorant populations. Many of these entities conduct cormorant monitoring and contribute to ongoing research and regional or local cormorant management efforts. However, to date, coordinated monitoring across the four North American flyways (Pacific, Central, Mississippi, and Atlantic), with shared objectives and standardized sampling design, does not exist. The desire to enhance existing monitoring efforts was shared in comments by States, Tribes, nongovernment organizations, and members of the public during the 2020 rulemaking process. Therefore, the Service committed to work in partnership with the Flyways to develop a monitoring program for each subpopulation of cormorants. In the 2020 final EIS, the Service made the commitment to monitor cormorant populations and produce a report every 5 years that provides analyses from population monitoring and other status information. The survey, developed in coordination with the four Flyways and conducted initially in 2024, is scheduled to be repeated every 5 years in order to update population estimates and PTL assessments.

A combination of Federal (Service and U.S. Department of Agriculture Wildlife Services) and State biologists, coordinated through Flyway working groups, conducted the survey during April through June 2024. All surveys will use a standardized data sheet that documents the following:

1. Completion data:

a. State, county, names of observers, and agency; and

b. Date/time, weather conditions (wind, sky, temperature).

2. Nesting colony information:

a. Colony name;

b. Latitude/longitude;

c. Whether the colony was existing, reestablished, or new;

d. Nest substrate; and

e. Site habitat condition.

3. Method used to survey the colony (i.e., ground count or aerial count).

4. Nest counts:

a. Number of active or inactive nests (with number of unknown);

b. Whether the entire colony was surveyed;

c. Whether co-nesting species were observed; and

d. Whether photos and/or videos were taken.

5. General comments from the observer.

To be flexible, States will have the option to use an electronic version of the datasheet (ArcGIS Survey123 software) or a paper-based survey form. The data the Service collects through the range-wide cormorant monitoring program will be used to update cormorant population estimates and to update PTL assessments with the most up-to-date information as specified in the 2020 EIS. The updated take limits would also inform future Service permit allocation. The Service will share the population estimates and PTL assessments with State and Tribal fish and wildlife agencies to inform their respective management actions, as well as with other Federal agencies, including the U.S. Department of Agriculture Wildlife Services program.

Title of Collection: National Double-Crested Cormorant Survey.

OMB Control Number: 1018-New.

Form Number: None.

Type of Review: New.

Respondents/Affected Public: State/local/Tribal government (State biologists coordinated through the four North American Flyways (Pacific, Central, Mississippi, and Atlantic)).

Total Estimated Number of Annual Respondents: 40.

Total Estimated Number of Annual Responses: 1,016.

Estimated Completion Time per Response: 4 hours (30 minutes reporting and 3.5 hours recordkeeping).

Total Estimated Number of Annual Burden Hours: 4,064.

Respondent's Obligation: Voluntary.

Frequency of Collection: One time.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-17234 Filed 8-2-24; 8:45 am]

BILLING CODE 4333-15-P